FEDERAL COMMUNICATIONS COMMISSION

47 CFR Part 73

[DA 01-2448; MM Docket No. 01-48; RM-10062 and 10117]

Radio Broadcasting Services; Junction City and Marquand, MO

AGENCY: Federal Communications Commission.

ACTION: Final rule.

SUMMARY: Bishop Community Radio, Inc. proposed the allotment of Channel 295A at Junction City, Missouri. See 16 FCC Rcd 3527 (2001). No comments were received supporting an allotment at Junction City. In response to a counterproposal filed by Dockins Communications, Inc., we shall allot Channel 295A to Marquand, Missouri, as a first local service. The coordinates for Channel 295A at Marquand are 37-30-00 and 90-06-41.

DATES: Effective December 3, 2001.

FOR FURTHER INFORMATION CONTACT: Kathleen Scheuerle, Mass Media Bureau, (202) 418-2180.

SUPPLEMENTARY INFORMATION: This is a summary of the Commission's Report and Order, MM Docket No. 01-48, adopted October 10, 2001, and released October 19, 2001. The full text of this Commission decision is available for public inspection and copying during regular business hours in the FCC's Reference Information Center, Portals II, 445 12th Street, SW., Room CY-A257, Washington, DC 20554. This document may also be purchased from the Commission's dulicating contractor, Qualex International, Portals II, 445 12th Street, SW., Room CY-B402, Washington, DC 20554, telephone 202-863-2893, facsimile 202-863-2898, or via e-mail qualexint@aol.com.

List of Subjects in 47 CFR Part 73

Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Missouri, is amended by adding Marquand, Channel 295A.

Federal Communications Commission.
John A. Karousos,
Chief, Allocations Branch, Policy and Rules Division, Mass Media Bureau.

[FR Doc. 01-27612 Filed 11-1-01; 8:45 am]

BILLING CODE 6712-01-P